DEPARTMENT OF TRANSPORTATION

Federal Transit Administration

Environmental Impact Statement for Improved Transportation Access Between Lower Manhattan, Jamaica Station, and John F. Kennedy International Airport (JFK), New York

AGENCY: Federal Transit Administration (FTA), DOT.

ACTION: Notice of intent to prepare an environmental impact statement.

SUMMARY: The FTA, in cooperation with the Metropolitan Transportation Authority (MTA), the Port Authority of New York & New Jersey (PANYNJ) and the Lower Manhattan Development Corporation (LMDC), and supported by the New York City Economic Development Corporation (NYCEDC), will prepare an Environmental Impact Statement (EIS) to evaluate alternatives that provide improved commuter and airport access connecting Lower Manhattan with the Long Island Rail Road (LIRR) Jamaica Station in Queens and with JFK International Airport. The project sponsors, MTA, PANYNJ, LMDC and NYCEDC, are undertaking a New Starts Alternatives Analysis (AA) concurrently with the EIS.

The FTA is the lead federal agency under the National Environmental Policy Act of 1969 (NEPA). The EIS will be prepared in accordance with NEPA and the regulations implementing NEPA set forth in 23 CFR part 771 and 40 CFR parts 1500-1508. As co-sponsors of the proposed project, MTA, PANYNJ, LMDC and NYCEDC will ensure that the EIS and the environmental review process will also satisfy the requirements of the New York State Environmental Quality Review Act (SEQRA).

The EIS will evaluate one or more Build Alternatives, a No Action Alternative, and a Transportation System Management (TSM) Alternative. The scoping process for the EIS will include an analysis and screening of all feasible rail and non-rail based transportation alternatives that will improve travel in the corridor between the Lower Manhattan, Jamaica and JFK Airport travel hubs. The project sponsors may designate a “locally preferred alternative” either prior to the preparation of the Draft EIS if a clear choice emerges from the screening analysis, or following public circulation of the Draft EIS.

Scoping will be accomplished through meetings and correspondence with interested persons, organizations, and Federal, State, regional, and local agencies. FTA, MTA, PANYNJ, and LMDC, supported by NYCEDC, seek public and interagency input on the scope of the EIS for this project including the alternatives to be considered and the environmental and community impacts to be evaluated.

DATES: The public is invited to participate in project scoping meetings on July 18, July 19 and July 20 at the locations identified under ADDRESSES. On July 18, the project sponsors will hold an information session at 2 p.m., followed by a formal presentation by the project sponsors at 4 p.m. and 6 p.m. On July 19 and July 20, information sessions will be held at 4 p.m. and formal presentations will be made at 6 p.m.

At the scoping meetings, the sponsors will display conceptual project information on poster boards for public review. Project staff will be available for informal questions and comments during the information sessions. Those wishing to make formal comments are requested to register at the meeting location before 7 p.m. A Scoping Document has been prepared and will be available at the scoping meetings or by contacting the Project Manager identified under ADDRESSES.

Written comments on the scope of the EIS should be sent to the Mr. Chris Bastian, MTA Project Manager, by September 15th, 2005 at the address given under ADDRESSES.

ADDRESSES: The public scoping meetings will be held:

• Monday, July 18th, 2005 at 2 Broadway, 20th Floor Conference Room, Manhattan (at Bowling Green)

• Tuesday, July 19th, 2005 at Brooklyn Borough Hall, 209 Joralemon Street, Brooklyn

• Wednesday, July 20th, 2005 at 94-20 Guy R. Brewer Blvd, York College of the City University of New York, Jamaica Queens

The scoping meeting sites are accessible to mobility-impaired people and interpreter services will be provided for hearing-impaired upon request. Written comments will be taken at the meeting or may be sent to the following address thru September 15, 2005: Mr. Chris Bastian, Project Manager, MTA, 347 Madison Avenue, New York, New York, 10017.

The scoping document may also be requested by writing to the Project Manager at the above address or by calling (212) 266-8363. Requests to be placed on the project mailing list may also be made by calling this number or by writing to the Project Manager.

Subsequent opportunities for public involvement will be announced on the Internet, by mail, and through other appropriate mechanisms, and will be conducted throughout the study area. Additional project information may be obtained from the following Web sites:

• MTA (http://www.mta.info; click “MTA Home” then “Planning Studies” and “Lower Manhattan-Jamaica/JFK Transportation Study”)

• LMDC (http://www.renewnyc.com)

• PANYNJ (http://www.panynj.gov)

FOR FURTHER INFORMATION CONTACT: Ms. Nancy Danzig, AICP, Community Planner, Federal Transit Administration, 212-668-2180.

SUPPLEMENTARY INFORMATION:

I. Scoping

FTA, MTA, PANYNJ, and LMDC with NYCEDC invite interested individuals, organizations, and federal, state, and local agencies to provide comments on the scope of the EIS. During the scoping process, comments should focus on identifying specific travel, economic, or environmental needs to be evaluated, and on proposing alternatives that address those needs, including alternatives that may be less costly or have fewer environmental impacts while achieving similar transportation objectives. To assist interested parties in formulating their comments, a scoping document has been prepared and is available on the MTA, PANYNJ and LMDC Web sites noted above, or upon request from the Project Manager identified in ADDRESSES above. The scoping document includes the project's purpose and need, goals and objectives, information about prior studies, a preliminary list of alternatives, environmental areas that will be addressed during the course of the study, and an outline of the ongoing public participation program.

II. Description of Project Area

The project area is roughly defined by a fourteen mile travel corridor between the transportation hubs of Lower Manhattan, the Jamaica Long Island Railroad (LIRR)/AirTrain JFK complex in Queens and John F. Kennedy International Airport. This area is served by the Long Island Rail Road Atlantic Branch between Jamaica, Queens and MTA's Atlantic Terminal in Brooklyn; the Atlantic Avenue arterial road; NYCT's Fulton Street Subway line on which the A train connects to the AirTrain JFK at Howard Beach; and multiple NYCT subway lines connecting Brooklyn and Lower Manhattan. Intermediate communities between the eastern and western hubs include the Downtown Brooklyn Business District, Fort Greene, Bedford-Stuyvesant, East New York, Woodhaven, Ozone Park and Howard Beach. In addition, commuters from communities in Eastern Queens, and Nassau and Suffolk Counties travel through the Jamaica hub on their way to Downtown Brooklyn and Lower Manhattan.

III. Problem Identification

The Lower Manhattan Central Business District (Manhattan south of Canal Street) is the nation's third largest business district, and the center of the international financial industry. The area is served by multiple subway lines; the PATH rail system from New Jersey; passenger ferry services; and local and express buses. However, rail access from Eastern Queens and the Long Island suburbs requires multiple modes, including either: (a) A transfer at the Jamaica LIRR station to Atlantic Branch trains and then an additional transfer at the LIRR Atlantic Terminal to a subway connecting to Lower Manhattan; (b) a long subway trip from Jamaica (via J Z subway lines) to Lower Manhattan; or (c) continuing travel via the LIRR to Midtown Manhattan's Penn Station and then a southbound connection on heavily used subway lines (either the 1, 2, 3, A or C train) to Lower Manhattan.

Approximately three miles south of the Jamaica LIRR station (and about 18 miles southeast of Lower Manhattan) is JFK International Airport, the metropolitan area's primary international air gateway, and a growing market for domestic air travel. At the present time, a one-seat ride to JFK International Airport from Lower Manhattan is limited to private cars, taxis and “black cars,”, and shuttle vans, while rail access is provided via the NYC subway system (A train) which makes several intermediate stops en-route to Howard Beach, where a transfer is required to the Port Authority's AirTrain JFK. Additional access to JFK International Airport is possible from Midtown Manhattan by either a) taking a subway from Lower Manhattan to Penn Station, then taking a LIRR train to Jamaica, and finally transferring to the AirTrain JFK, or b) taking a subway (4 or 5) to Grand Central Terminal, then private bus service to JFK International Airport via the city's crowded highway system.

Lower Manhattan's transportation system was severely impaired by the attacks of September 11, 2001. The World Trade Center PATH Terminal and NYCT 1 9 Cortlandt Street Station were destroyed. PATH service to Lower Manhattan was interrupted and subway service disrupted. The attacks also accentuated significant inefficiencies in the area's extensive transportation infrastructure, largely constructed prior to World War I, which jeopardize the area's sustainability as a central business district (CBD), emerging residential area, and key tourist destination.

IV. Purpose and Need for the Proposed Action

The purpose of the proposed Lower Manhattan and Jamaica/JFK International Airport Transportation Project is to improve mobility among the three hubs for both commuters and air travelers by reducing travel times, eliminating or reducing transfers, increasing reliability, providing additional capacity and service flexibility into Lower Manhattan from the east, and reducing congestion on other transportation services currently used by travelers in the corridor.

As a result of the attacks on the World Trade Center complex in 2001, elected officials and the Downtown business community have identified both improvements in commuter access between Jamaica, Downtown Brooklyn and Lower Manhattan and improvements in access to JFK International Airport as key elements needed to support the Lower Manhattan area's economic recovery and its ability to compete with other world economic centers such as London, Frankfurt and Tokyo.

V. Alternatives

The project sponsors will follow the Alternatives Analysis (AA) procedures of FTA's Section 5309 New Starts process. The alternatives to be considered during the AA phase will address the defined corridor problem and study goals and objectives. Through evaluation and screening of conceptual alternatives, the project sponsors will narrow the range of viable alternatives to a manageable number to carry forward into a detailed analysis in the EIS. The EIS will evaluate the following alternatives:

• Build Alternative(s), which will include any rail or non-rail alternative that survives the scoping and New Starts Alternatives Analysis;

• Future No Action Alternative, which will include the existing system and planned transportation improvements (other than the proposed project) included in the official metropolitan long-range transportation plan; and

• Transportation System Management (TSM) Alternative, which will attempt to satisfy the project's purpose and need with lower cost improvements beyond those in the long-range plan, such as more effective operating practices, increased rolling stock, and station improvements.

The project sponsors may designate a “locally preferred alternative” either prior to the preparation of the Draft EIS or following public circulation and comment on the Draft EIS.

The New Starts Alternatives Analysis for this project will draw upon previous planning studies including the Lower Manhattan Airport and Commuter Access Alternatives Analysis, completed in 2004 (the results of which are available on the LMDC Web site) and the MTA's Lower Manhattan Access Alternatives Study, completed in 2001 (the results of which are available upon request from the MTA). The 2004 study recommended two rail alternatives for further study in the EIS phase. Both alternatives use the same alignment, the LIRR Atlantic Branch, from Jamaica to Atlantic Terminal in Downtown Brooklyn, with AirTrain JFK service connecting to the Atlantic Branch at Jamaica. Both alternatives, in order to access Lower Manhattan, break out of the LIRR Atlantic Branch tunnel east of the LIRR/NYCT Atlantic Terminal. One alternative would connect to a new rail tunnel under the East River into Lower Manhattan and the other would connect to the existing Montague Street Tunnel, currently used for NYCT subway service (M R subway lines).

VI. Potential Effects

Upon completion, the proposed transportation improvements are anticipated to reduce travel times, eliminate or reduce transfers, improve service reliability, provide additional capacity and service flexibility into Lower Manhattan from the east, and reduce congestion on other transit lines currently used by travelers in the corridor.

Impacts that may occur as a result of the improvements will be evaluated in the EIS. The project sponsors have identified several areas of concern, some of which will be temporary during the construction phase, including: Property acquisition and displacement; historic, archaeological, and cultural resources; wetlands and water quality; visual and aesthetic qualities; air quality; noise and vibration; safety and security; utilities; and transportation impacts.

The EIS will describe the methodology used to assess impacts; identify the affected environment; and identify and adopt measures for mitigating adverse impacts, if any. Principles of environmental construction management, resource protection and mitigation measures, such as NYCT's Green Design for the Environment Guidelines (2002) and LIRR's Sustainable Design/Design for the Environment “ Generic Guidelines (March 2003), developed pursuant to New York State Executive Order No. 111 “Green and Clean,” will be considered for incorporation into the selected Alternative.

VII. FTA Procedures

During the NEPA process, FTA will comply with the requirements of Section 106 of the National Historic Preservation Act, Section 4(f) of the Department of Transportation Act (49 U.S.C. 303), the conformity requirements of the Clean Air Act, Executive Order 12898 on Environmental Justice and, to the maximum extent practicable, all other applicable federal environmental statutes, regulations, and executive orders, in accordance with FTA policy and regulations.

A Draft EIS will be prepared and made available for public and agency review and comment. One or more public hearings will be held on the Draft EIS. On the basis of the AA or Draft EIS and the public and agency comments thereon, a locally preferred alternative will be selected and will be fully described and further developed in the Final EIS.

Issued on: June 15, 2005.
Letitia Thompson,
Regional Administrator, Region II.

[FR Doc. 05-12153 Filed 6-20-05; 8:45 am]

BILLING CODE 4910-57-P